DEPARTMENT OF THE INTERIOR

Bureau of Land Management

[LLCO923000 L14300000.ET0000; COC-28675]

Notice of Proposed Withdrawal Modification of Public Land Order No. 184 and Opportunity for a Public Meeting, Colorado

AGENCY: Bureau of Land Management, Interior.

ACTION: Notice.

SUMMARY: The Assistant Secretary of the Interior for Land and Minerals Management proposes to modify, on behalf of the Bureau of Land Management (BLM), Public Land Order (PLO) No. 184 by opening the public land to all forms of appropriation and entry under the public land laws to provide for the disposal of small, fragmented, isolated parcels that are largely intermingled within residential areas. The public lands will remain closed to location and entry under the United States mining and mineral leasing laws. This notice gives the public an opportunity to comment on the application and to request a public meeting.

DATES: Comments and public meeting requests must be received on or before May 11, 2015.

ADDRESSES: Comments and meeting requests should be sent to the BLM Colorado State Office, 2850 Youngfield Street, Lakewood, CO 80215-7093.

FOR FURTHER INFORMATION CONTACT: John D. Beck, Chief, Branch of Lands and Realty, 303-239-3882. Persons who use a telecommunication device for the deaf (TDD) may call the Federal Information Relay Service (FIRS) at 1-800-877-8339 to contact the above individual. The FIRS is available 24 hours a day, seven days a week, to leave a message or question with the above individual. You will receive a reply during normal business hours.

SUPPLEMENTARY INFORMATION: The BLM filed an application requesting the Assistant Secretary for Land and Minerals Management to modify PLO No. 184, by opening the following described public lands to all forms of appropriation and entry under the public land laws, but not to the United States mining and mineral leasing laws, subject to valid existing rights, other segregations of record, and the requirements of applicable law:

Sixth Principal Meridian

T. 9 S., R. 79 W.,

secs. 18, 19, and 30, all public land.

T. 9 S., R. 80 W.,

sec. 12, all public land;

sec. 13, lots 30 and 31, and all remaining public land;

sec. 24, lot 13, and all remaining public land.

The areas described aggregate approximately 219 acres in Lake County.

The Assistant Secretary for Land and Minerals Management approved the BLM's petition/application; therefore, the petition constitutes a withdrawal modification proposal of the Secretary of the Interior (43 CFR 2310.1-3(e)).

The purpose of the withdrawal modification is to allow the BLM the ability to dispose of small, fragmented, isolated parcels that are largely intermingled within residential areas. The lands will remain closed to location and entry under the United States mining and mineral leasing laws.

The use of a right-of-way, interagency or cooperative management agreement would not allow for title transfer in cases where it is determined to be in the public interest to dispose of highly-fragmented, isolated parcels.

There are no suitable alternative sites available.

Water will not be needed to fulfill the purpose of the requested withdrawal modification.

Records relating to the application may be examined by contacting Andy Senti, BLM Colorado State Office at the above address or by telephone at 303-239-3713.

For the period until May 11, 2015, all persons who wish to submit comments, suggestions, or objections in connection with the proposed withdrawal modification application may present their views in writing to the BLM Colorado State Office at the address noted above. Comments, including names and street addresses of respondents, will be available for public review at the BLM Colorado State Office, at the address above, during regular business hours, 9 a.m. to 4 p.m., Monday through Friday, except Federal holidays.

Before including your address, phone number, email address, or any other personal identifying information in your comments, you should be aware that your entire comment —including your personal identifying information—may be made publicly available at any time. While you can ask us in your comment to withhold your personal identifying information from public review, we cannot guarantee that we will be able to do so.

Notice is hereby given that an opportunity for a public meeting is afforded in connection with the proposed withdrawal modification. All interested persons who desire a public meeting for the purpose of being heard on the proposed withdrawal modification must submit a written request to the BLM Colorado State Director no later than May 11, 2015. If the authorized officer determines that a public meeting will be held, a notice of the time and place will be published in the Federal Register and through local media, newspapers and the BLM Colorado Web site at: www.blm.gov/co, at least 30 days before the scheduled date of the meeting.

Licenses, permits, cooperative agreements or discretionary land use authorizations of a temporary nature or the disposal of the mineral or vegetative resources other than under the mining and mineral leasing laws may be permitted if the use is consistent with the management objectives for the area.

This withdrawal modification application will be processed in accordance with the regulations set forth in 43 CFR 2310.3, et seq.

Ruth Welch,
Colorado State Director.

[FR Doc. 2015-02568 Filed 2-6-15; 8:45 am]

BILLING CODE 4310-JB-P